DEPARTMENT OF TRANSPORTATION

Federal Aviation Administration

14 CFR Part 97

[Docket No. 30372; Amdt. No. 3061]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective June 16, 2003. The compliance date for each SIAP is specified in the amendatory provisions.

The incorporation by reference of certain publications listed in the regulations is approved by the Director of the Federal Register as of June 16, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers and aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97:

Air Traffic Control, Airports, Incorporation by reference, and Navigation (Air).

Issued in Washington, DC on June 6, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§ 97.23, § 97.25, § 97.27, § 97.29, § 97.31, § 97.33, § 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs identified as follows:

Effective July 10, 2003

Cloverdale, CA, Cloverdale Muni, RNAV (GPS) RWY 32, Orig

Chicago/Aurora, IL, Aurora Mini, ILS RWY 9, Amdt 2

Hilton Head Island, SC, Hilton Head, VOR/DME-A, Amdt 10

Hilton Head Island, SC, Hilton Head, RNAV (GPS) RWY 3, Orig

Hilton Head Island, SC, Hilton Head, RNAV (GPS) RWY 21, Orig

Hilton Head Island, SC, Hilton Head, GPS RWY 21, Orig, CANCELLED

Hilton Head Island, SC, Hilton Head, VOR/DME RNAV OR GPS RWY 3, Amdt 4B, CANCELLED

Hilton Head Island, SC, Hilton Head, VOR/DME RNAV or GPS RWY 21, Amdt 4C, CANCELLED

Corpus Christi, TX, Corpus Christi Intl, RNAV (GPS) RWY 13, Orig

Corpus Christi, TX, Corpus Christi Intl, RNAV (GPS) RWY 17, Orig

Corpus Christi, TX, Corpus Christi Intl, RNAV (GPS) RWY 35, Orig

Corpus Christi, TX, Corpus Christi Intl, RNAV (GPS) RWY 31, Orig

Corpus Christi, TX, Corpus Christi Intl, GPS RWY 13, Orig, CANCELLED

Corpus Christi, TX, Corpus Christi Intl, GPS RWY 17, Orig, CANCELLED

Corpus Christi, TX, Corpus Christi Intl, GPS RWY 31, Orig-A, CANCELLED

Corpus Christi, TX, Corpus Christi Intl, GPS RWY 35, Orig-A, Cancelled

Rockport, TX, Aransas County, RNAV (GPS) RWY 14, Amdt 1

Effective August 07, 2003

Chicago, IL, Chicago-O'Hare Intl, RNAV (GPS) RWY 32L, Amdt 1

McKinney, TX, McKinney Muni, ILS RWY 17, Amdt 2

Madison, WI, Dane County Regional-Truax Field, VOR RWY 32, Orig

Effective September 04, 2003

Vidalia, GA, Vidalia Muni, NDB RWY 24, Amdt 3

Vidalia, GA, Vidalia Muni, LOC RWY 24, Amdt 3

Bardstown, KY, Samuels Field, VOR/DME-A, Orig

Bardstown, KY, Samuels Field, VOR/DME RWY 2, Amdt 3A, CANCELLED

Corvallis, OR, Corvallis Muni, NDB RWY 17, Amdt 2

Florence, SC, Florence Regional, VOR or TACAN-A, Amdt 5

The FAA published the following procedures in Docket No. 30369; Amdt. No. 3059 to Part 97 of the Federal Aviation Regulations (Vol. 68, FR No. 105, page 32634; dated Monday, June 2, 2003) under sections 97.23 and 97.33 effective July 10, 2003 are hereby rescinded:

Window Rock, AZ, Window Rock, VOR/DME-A, Orig-C

Window Rock, AZ, Window Rock, RNAV (GPS)-B, Orig

Window Rock, AZ, Window Rock, RNAV (GPS) RWY 2, Orig

Window Rock, AZ, Window Rock, VOR/DME RNAV OR GPS RWY 2, Amdt 1A, CANCELLED

The FAA published the following procedures in Docket No. 30365; Amdt. No. 3055 to Part 97 of the Federal Aviation Regulations (Vol. 68, FR No. 87, Page 23891; dated Tuesday, May 6, 2003) under sections 97.23 and 97.33 effective July 10, 2003 are hereby rescinded:

Mitchellville, MD, Freeway, VOR RWY 36, Orig-B

Mitchellville, MD, Freeway, RNAV (GPS) RWY 18, Orig

Mitchellville, MD, Freeway, RNAV (GPS) RWY 36, Orig

The FAA published the following procedures in Docket No. 30369; Amdt. No. 3059 to Part 97 of the Federal Aviation Regulations (Vol. 68, FR No. 105, Page 32635; dated Monday, June 2, 2003) under sections 97.23; 97.29 and 97.33 effective July 10, 2003 which are hereby corrected to read as follows:

Pedricktown, NJ, Spitfire Aerodrome, RNAV (GPS) RWY 7, Orig

Pedricktown, NJ, Spitfire Aerodrome, RNAV (GPS) RWY 25, Orig

Providence, RI, Theodore Francis Green State, VOR/DME RWY 23, Amdt 6E

Providence, RI, Theodore Francis Green State, ILS RWY 5, Amdt 18

Providence, RI, Theodore Francis Green State, ILS RWY 23, Amdt 5

Providence, RI, Theodore Francis Green State, RNAV (GPS) Y RWY 5, Orig

Providence, RI, Theodore Francis Green State, RNAV (GPS) Z RWY 5, Orig

Providence, RI, Theodore Francis Green State, RNAV (GPS) RWY 23, Orig

The FAA published the following procedures in Docket No. 30369; Amdt. No. 3059 to Part 97 of the Federal Aviation Regulations (Vol. 68, FR No. 105, Page 13622; dated Monday June 2, 2003) under section 97.33 effective July 10, 2003 which are hereby rescinded; The procedures published on May 15, 2003 remain in effect.

Babelthuap Island, PS, Babelthuap/Koror, RNAV (GPS) RWY 9, Orig

Babelthuap Island, PS, Babelthuap/Koror, RNAV (GPS)RWY 27, Orig

Babelthuap Island, PW, Babelthuap/Koror, GPS RWY 9, AMDT 1B (CANCELLED)

Babelthuap Island, PW, Babelthuap/Koror, GPS RWY 27, AMDT 1B (CANCELLED)

The FAA published the following procedures in Docket No. 30369; Amdt. No. 3059 to Part 97 of the Federal Aviation Regulations (Vol. 68, FR No. 105, Page 32635; dated Monday, June 2, 2003) under sections 97.23; 97.29 and 97.33 effective July 10, 2003 which are hereby corrected to read as follows:

Durant, OK, Eaker Field, VOR/DME RWY 35, Orig

Durant, OK, Eaker Field, NDB RWY 35, Amdt 6

The FAA published the following procedures in Docket No. 30365; Amdt. No. 3055 to Part 97 of the Federal Aviation Regulations (Vol. 68, FR No. 87, Page 23891; dated Tuesday, May 6, 2003) under sections 97.23; 97.25; 97.29; 97.31; 97.33 and 97.35 listed with an effective date of June 12, 2003 which are hereby corrected to be effective on July 10, 2003:

Payson, AZ, Payson, RNAV (GPS)-A, Amdt 1

Chino, CA, Chino, ILS RWY 26R, Amdt 6

Inyokern, CA, Inyokern, RNAV (GPS) Y RWY 02, Orig

Inyokern, CA, Inyokern, RNAV (GPS) Z RWY 02, Orig

Hayden, CO, Yampa Valley, RNAV (GPS) Z RWY 10, Orig

Hayden, CO, Yampa Valley, RNAV (GPS) Y RWY 10, Orig

Hayden, CO, Yampa Valley, RNAV (GPS) RWY 28, Orig

Hayden, CO, Yampa Valley, GPS C, Orig, CANCELLED

Hayden, CO, Yampa Valley, GPS D, Orig, CANCELLED

Lamar, CO, Lamar Muni, RNAV (GPS) RWY 8, Orig

Lamar, CO, Lamar Muni, RNAV (GPS) RWY 18, Orig

Lamar, CO, Lamar Muni, RNAV (GPS) RWY 26, Orig

Lamar, CO, Lamar Muni, RNAV (GPS) RWY 36, Orig

Lamar, CO, Lamar Muni, GPS RWY 18, Orig-A, CANCELLED

Lamar, CO, Lamar Muni, GPS RWY 36, Amdt 1A, CANCELLED

Zephyrhills, FL, Zephyrhills Muni, NDB RWY 18, Orig

Zephyrhills, FL, Zephyrhills Muni, NDB RWY 22, Orig

Zephyrhills, FL, Zephyrhills Muni, NDB RWY 36, Orig

Rochelle, IL, Rochelle Muni Airport-Koritz Field, VOR-A, Amdt 8

Rochelle, IL, Rochelle Muni Airport-Koritz Field, RNAV (GPS) RWY 7, Orig

Rochelle, IL, Rochelle Muni Airport-Koritz Field, RNAV (GPS) RWY 25, Orig

Rayville, LA, John H. Hooks Jr Memorial, RNAV (GPS) RWY 36, Orig

Rayville, LA, John H. Hooks Jr Memorial, GPS RWY 36, Orig, CANCELLED

Mitchellville, MD, Freeway, VOR RWY 36, Orig-B

Mitchellville, MD, Freeway, RNAV (GPS) RWY 18, Orig

Mitchellville, MD, Freeway, RNAV (GPS) RWY 36, Orig

Ridgely, MD, Ridgely Airpark, RNAV (GPS) RWY 12, Orig

Ridgely, MD, Ridgely Airpark, RNAV (GSP) RWY 30, Orig

Bay City, MI, James Clements Muni, VOR-A, Amdt 12

Cavalier, ND, Cavalier Muni, RNAV (GPS) RWY 34, Orig

Fairmont, NE, Fairmont State Airfield, NDB RWY 17, Amdt 1

Fairmont, NE, Fairmont State Airfield, NDB RWY 35, Amdt 2

Fairmont, NE, Fairmont State Airfield, GPS RWY 35, Orig, CANCELLED

Fairmont, NE, Fairmont State Airfield, RNAV (GPS) RWY 17, Orig

Fairmont, NE, Fairmont State Airfield, RNAV (GPS) RWY 35, Orig

West Milford, NJ, Greenwood Lake, RNAV (GPS) RWY 6, Orig

West Milford, NJ, Greenwood Lake, GPS RWY 6, Orig, CANCELLED

Lake Placid, NY, Lake Placid, RNAV (GPS) RWY 14, Orig

Lake Placid, NY, Lake Placid, RNAV (GPS)-A, Orig

Ticonderoga, NY, Ticonderoga Muni, RNAV (GPS) RWY 2, Orig

Ticonderoga, NY, Ticonderoga Muni, RNAV (GPS) RWY 20, Orig

Ticonderoga, NY, Ticonderoga Muni, GPS RWY 2, Orig, CANCELLED

Ticonderoga, NY, Ticonderoga Muni, GPS RWY 20, Orig, CANCELLED

West Union, OH, Alexander Salamon, NDG RWY 23, Amdt 4

West Union, OH, Alexander Salamon, RNAV (GPS) RWY 5, Orig

West Union, OH, Alexander Salamon, RNAV (GPS) RWY 23, Orig

Fayetteville, TN, Fayetteville Muni, SDF RWY 20, Amdt 3

Fayetteville, TN, Fayetteville Muni, NDB RWY 20, Amdt 4

Brenham, TX, Brenham Muni, RNAV (GPS) RWY 16, Orig

Brenham, TX, Brenham Muni, RNAV (GPS) RWY 34, Orig

Brenham, TX, Brenham Muni, GPS RWY 16, Orig-A, CANCELLED

Brenham, TX, Brenham Muni, GPS RWY 34, Orig-A, CANCELLED

Rockport, TX, Aransas County, RNAV (GPS) RWY 14, Amdt 1

Rocksprings, TX, Edwards County, VOR RWY 14, Amdt 4

Rocksprings, TX, Edwards County, RNAV (GPS) RWY 14, Orig

Richmond/Ashland, VA, Hanover County Muni, VOR RWY 16, Amdt 2

[FR Doc. 03-14991 Filed 6-13-03; 8:45 am]

BILLING CODE 4910-13-M